SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: January 1 through January 31, 2013

ADDRESSES: Susquehanna River Basin Commission, 1721 North Front Street, Harrisburg, PA 17102-2391.

FOR FURTHER INFORMATION CONTACT: Richard A. Cairo, General Counsel, telephone: (717) 238-0423, ext. 306; fax: (717) 238-2436; email: rcairo@srbc.net. Regular mail inquiries may be sent to the above address.

SUPPLEMENTARY INFORMATION: This notice lists the projects, described below, receiving approval for the consumptive use of water pursuant to the Commission's approval by rule process set forth in 18 CFR § 806.22(e) and § 806.22(f) for the time period specified above:

Approvals by Rule Issued Under 18 CFR 806.22(e)

1. Moxie Energy, LLC, Moxie Patriot, LLC Facility, ABR-201301006, Clinton Township, Lycoming County, Pa.; Consumptive Use of Up to 0.060 mgd; Approval Date: January 18, 2013.

2. Moxie Energy, LLC, Moxie Liberty, LLC Facility, ABR-201301007, Asylum Township, Bradford County, Pa.; Consumptive Use of Up to 0.060 mgd; Approval Date: January 18, 2013.

Approvals by Rule Issued Under 18 CFR 806.22(f)

1. EOG Resources, Inc., Pad ID: HARKNESS C Pad, ABR-201301001, Smithfield Township, Bradford County, Pa.; Consumptive Use of Up to 5.000 mgd; Approval Date: January 7, 2013.

2. EOG Resources, Inc., Pad ID: HOPPAUGH C Pad, ABR-201301002, Springfield Township, Bradford County, Pa.; Consumptive Use of Up to 5.000 mgd; Approval Date: January 7, 2013.

3. Chief Oil & Gas LLC, Pad ID: Cochran Drilling Pad, ABR-201301003, West Burlington Township, Bradford County, Pa.; Consumptive Use of Up to 2.000 mgd; Approval Date: January 11, 2013.

4. Pennsylvania General Energy Company, LLC, Pad ID: COP Tract 322 Pad A, ABR-201301004, Cummings Township, Lycoming County, Pa.; Consumptive Use of Up to 3.500 mgd; Approval Date: January 11, 2013.

5. Pennsylvania General Energy Company, LLC, Pad ID: COP Tract 322 Pad B, ABR-201301005, Cummings Township, Lycoming County, Pa.; Consumptive Use of Up to 3.500 mgd; Approval Date: January 11, 2013.

6. Range Resources—Appalachia, LLC, Pad ID: Grays Run 6H-10H, ABR-201301008, McIntyre Township, Lycoming County, Pa.; Consumptive Use of Up to 5.000 mgd; Approval Date: January 25, 2013.

7. Chesapeake Appalachia, LLC, Pad ID: Three D Acres, ABR-201301009, Monroe Township, Bradford County, Pa.; Consumptive Use of Up to 7.500 mgd; Approval Date: January 25, 2013.

8. Southwestern Energy Production Company, Pad ID: WALKER WEST PAD 14, ABR-201301010, Jackson Township, Susquehanna County, Pa.; Consumptive Use of Up to 4.999 mgd; Approval Date: January 25, 2013.

9. WPX Energy Appalachia, LLC, Pad ID: Buxbaum Well Pad, ABR-201301011, Franklin Township, Susquehanna County, Pa.; Consumptive Use of Up to 4.000 mgd: Approval Date: January 25, 2013.

10. Chesapeake Appalachia, LLC, Pad ID: Alvarez, ABR-201301012, Wilmot and Windham Townships, Bradford and Windham Counties, Pa.; Consumptive Use of Up to 7.500 mgd; Approval Date: January 25, 2013.

11. Seneca Resources, Pad ID: DCNR 100 Pad T, ABR-201301013, Lewis Township, Lycoming County, Pa.; Consumptive Use of Up to 4.000 mgd; Approval Date: January 30, 2013.

12. Chesapeake Appalachia, LLC, Pad ID: Finan, ABR-201301014, Wilmot Township, Bradford County, Pa.; Consumptive Use of Up to 7.500 mgd; Approval Date: January 30, 2013.

13. Chesapeake Appalachia, LLC, Pad ID: Outback, ABR-201301015, Elkland Township, Sullivan County, Pa.; Consumptive Use of Up to 7.500 mgd; Approval Date: January 30, 2013.

14. Chesapeake Appalachia, LLC, Pad ID: Rosiemar, ABR-201301016, Auburn Township, Susquehanna County, Pa.; Consumptive Use of Up to 7.500 mgd; Approval Date: January 30, 2013.

15. Cabot Oil & Gas Corporation, Pad ID: KropaT P1, ABR-201301017, Springville Township, Susquehanna County, Pa.; Consumptive Use of Up to 3.575 mgd; Approval Date: January 30, 2013.

Authority: Pub. L. 91-575, 84 Stat. 1509 et seq., 18 CFR parts 806, 807, and 808.

Dated: February 25, 2013.
Stephanie L. Richardson,
Secretary to the Commission.

[FR Doc. 2013-05512 Filed 3-8-13; 8:45 am]

BILLING CODE 7040-01-P